DEPARTMENT OF LABOR

Employment and Training Administration

[TA-W-40,235]

Ericsson, Research Triangle Park, NC; Notice of Negative Determination Regarding Application for Reconsideration

By application received on February 22, 2002, the petitioner(s) requested administrative reconsideration of the Department's negative determination regarding eligibility for workers and former workers of the subject firm to apply for Trade Adjustment Assistance (TAA). The denial notice applicable to workers of Ericsson, Research Triangle Park, North Carolina, was signed on January 18, 2002, and published in the Federal Register on February 5, 2002 (67 FR 5294).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition, filed on behalf of workers at Ericsson, Research Triangle Park (RTP), North Carolina, were engaged in activities related to the research and development of software (embedded software) to be installed in digital cell phones for a firm which sold digital cell phones. The petition was denied because the petitioning workers did not produce an article within the meaning of Section 222(3) of the Act.

The petitioner alleges that Ericsson, Research Triangle Park, North Carolina produced digital cell phone software.

Information supplied by the company indicates that the workers at Ericsson, Research Triangle Park, North Carolina were primarily engaged in research, development and sales of mobile telephone equipment. This included the designing of mobile phones and the development of software (activities related to the research, and development of embedded software for digital cell phones). Administrative and support-type personnel were also located at the site performing finance, IT, legal, facilities management and human resource functions. There was no manufacturing performed at the subject facility.

The investigation further revealed that the major contributing factors to the layoffs at the subject plant were related to a decline in the demand for cell phones and a worldwide joint venture agreement between the subject firm and Sony during the relevant period.

The workers at the subject firm do not produce an article within the meaning of Section 222(3) of the Trade Act 1974.

Conclusion

After review of the application and investigative findings, I conclude that there has been no error or misinterpretation of the law or of the facts which would justify reconsideration of the Department of Labor's prior decision. Accordingly, the application is denied.

Signed at Washington, DC, this 9th day of May, 2002.
Edward A. Tomchick,
Director, Division of Trade Adjustment Assistance.

[FR Doc. 02-14592 Filed 6-10-02; 8:45 am]

BILLING CODE 4510-30-P